DEPARTMENT OF HEALTH AND HUMAN SERVICES

Health Resources and Services Administration

Fiscal Year 2003 Competitive Application Cycle for the Black Lung Clinics Program (BLCP) CFDA Number 93.965; HRSA-03-086

AGENCY: Health Resources and Services Administration, HHS.

ACTION: Notice of availability of funds.

SUMMARY: The Health Resources and Services Administration (HRSA) announces the availability of up to $250,000 to support one grant project to an eligible entity for the purpose of carrying out a program to seek out and provide services to active and inactive miners, in southwest Indiana, who were exposed to coal dust as a result of employment. The former grantee in southwest Indiana relinquished the grant on September 23, 2002. As a result, an interim grantee was identified. The project period for the interim grantee ends on June 30, 2003. Eligible entities are expected to provide services described below in “Program Expectations. The Bureau of Primary Health Care (BPHC) intends to fund no more than one award.

Authorizing Legislation: The Black Lung Clinics Program (BLCP) was authorized by the Federal Mine Safety and Health Act of 1977 as amended by the Black Lung Benefits Reform Act of 1977 (Pub. L. 95-239), in order to provide treatment and rehabilitation for individuals who currently or formerly worked within a coal or other mining industry and, as a result, were exposed to coal dust. It provides the authority for competitive grants to States, private, or public entities to provide the services listed below in “Program Expectations” to the population described above. Services may be provided either directly or through formal arrangements with appropriate health care providers. The implementing regulations for the BLCP may be found at 42 CFR part 55a.

DATES: The intended timeline for application submission, review and award are as follows: June 13, 2003, application deadline; July 31, 2003, grant awards announced.

Applications will be considered on time if they are: (1) Received on or before the established deadline date; or (2) postmarked on or before the deadline date given in the Federal Register notice. Late applications will be returned to the applicant. Applicants should obtain a legibly dated receipt from a commercial carrier or the U.S. Postal Service or request a legibly dated U.S. Postal Service postmark. Private metered postmarks shall not be accepted as proof of timely mailing. Applications sent to any address other than that specified below are subject to being returned. Applicants will receive notification of their application receipt. Electronic submission is not available for this program announcement.

Application Requests: To receive a complete application kit (i.e., application instructions, necessary forms, and application review criteria), contact the HRSA Grants Application Center at:

HRSA Grants Application Center, 901 Russell Avenue, Suite 450, Gaithersburg, MD 20879. Phone: 1-877-HRSA-123 (1-877-477-2123). Fax: 1-877-HRSA-345 (1-877-477-2345). E-mail: hrsagac@hrsa.gov.

When contacting the HRSA Grants Application Center (GAC) please use the following program announcement when requesting application materials: HRSA-03-086. Applications must be submitted to the HRSA GAC. Applicants should note that beginning April 1, 2003, HRSA will begin accepting grant applications online. Please refer to the HRSA grants schedule at http://www.hrsa.gov/grants.htm for more information. Applications must be postmarked by the due date as specified above for each program area.

Eligible Applicants: The following entities are eligible to apply for the funds described in this notice:

• Any State, private, or public entities, including faith-based and community-based organizations, proposing to serve miners or coal miners, in southwest Indiana, exposed to coal dust as a result of employment.

Program Expectations: The purpose of the BLCP is to improve the health status of miners or coal miners exposed to coal dust as a result of employment and to increase coordination with other services and benefits programs to meet the health-related needs of this population.

The following is a list of core services that must be provided by all grantees:

• Primary care, including screening, diagnosis, treatment, and rehabilitation

• Patient and family education and counseling

• Outreach

• Patient care coordination, including individual patient care plans for all patients, and referrals, as indicated

• Antismoking advice

• Other symptomatic treatments, including pulmonary rehabilitation

• The applicant must provide services in consultation with a physician with special training or experience in the diagnosis and treatment of respiratory diseases. In addition, the applicant must meet all criteria for approval and designation by the Department of Labor under 20 CFR part 725 to perform disability examination and provide treatment under the Federal Mine Safety and Health Act of 1977, as amended. All services must be provided regardless of a person's ability to pay. Grants funds under this program must supplement and not supplant existing services of the grantee.

Matching or Cost Sharing Requirement: Matching in not required, however, cost participation is encouraged.

Application Review and Funding Criteria: Each application submitted by the deadline will be reviewed initially for eligibility. Those applications that are determined to be ineligible, incomplete or non-responsive will be returned to the applicant without further consideration. Those applications that are determined to be eligible will be reviewed by a panel of reviewers comprised of non-Federal experts using the following objective review criteria:

• Need and Readiness—the extent to which the applicant can demonstrate a need for these services in their area and their readiness to provide them.

• Administration—the extent to which the applicant demonstrates that it has the administrative experience and capacity to successfully implement this program.

• Health Care Services—the extent to which the applicant has the capacity to provide or arrange for the required services (quality and breadth).

• Collaborative Arrangements—the extent to which the applicant has developed and documented collaborative arrangements with other local providers to conduct outreach, receive referrals and provide services, number of miners to be served and their needs.

• Appropriateness of Budget—the extent to which the applicant's budget is appropriate for the scope of the proposed activities.

Funding Preferences and Priorities: The Bureau of Primary Health Care (BPHC) intends to fund one award. The goal of the BPHC is to award funds to organizations that can best provide comprehensive services to the largest number of eligible individuals in a cost-effective manner.

Funding Preferences

A funding preference is defined as the funding of a specific category or group of approved applications ahead of other categories or groups of applications. The BPHC will give preference to applicants that are State entities which meet the legislative requirements of the Federal Mine and Safety Health Act of 1977 as amended by the Black Lung Benefits Reform Act of 1977. States are given preference per the relevant regulations, specifically 42 CFR 55a.103. The requirements are detailed in regulations.

Funding Priorities

A funding priority is defined as the favorable adjustment of aggregate review scores of individually approved applications when applications meet specific criteria. The following funding priority is applicable to the Black Lung Clinics Program.

• Applicants that are currently operating a Black Lung for patients in compliance with Program Expectations will receive 3 additional points.

Estimated Amount of Available Funds: Up to $250,000 will be available in fiscal year 2003 for this program.

Estimated Project Period: 3 years.

Estimated Number of Awards: It is estimated that one award will be made.

FOR FURTHER INFORMATION CONTACT: Ms. Shirl Taylor-Wilson, Black Lung Clinics Program, Bureau of Primary Health Care, Health Resources Services Administration, 4350 East-West Highway, 9th Floor, Bethesda, Maryland 20818. Phone: 301-594-4420. Fax: 301-594-2470. E-mail: staylor-wilson@hrsa.gov.

Public Health System Reporting Requirements: Under these requirements (approved by the Office of Management and Budget 0937-0195), a community-based non-governmental applicant must prepare and submit a Public Health System Impact Statement to the head of the appropriate State and local health agencies in the area(s) to be impacted no later than the Federal application receipt due date. This statement must include:

(a) A copy of the face page of the application (SF 424)

(b) A summary of the project, not to exceed one page, which provides:

• A description of the population to be served,

• A summary of the services to be provided, and

• A description of the coordination planned with the appropriate State and local health agencies.

Executive Order 12372

This program has been determined to be a program which is subject to the provisions of Executive Order 12372 concerning intergovernmental review of Federal programs by appropriate health planning agencies, as implemented by 45 CFR part 100. Executive Order 12372 allows States the option of setting up a system for reviewing applications from within their States for assistance under certain Federal programs. The application packages to be made available under this notice will contain a listing of States that have chosen to set up such a review system and will provide a single point of contact (SPOC) in the States for review. Applicants (other than Federally-recognized Indian tribal government) should contact their State SPOC as early as possible to alert them to the prospective applications and receive any necessary instructions on the State process. For proposed projects serving more than one State, the applicant is advised to contact the SPOC of each affected State. The due date for State process recommendations is 60 days after the application deadline for new and competing awards. The granting agency does not guarantee to “accommodate or explain” for State process recommendations it receives after that date. (See part 148, Intergovernmental Review of Public Health Service Programs under Executive Order 12372 and 45 CFR part 100 for a description of the review process and requirements.)

Dated: April 16, 2003.
Elizabeth M. Duke,
Administrator.

[FR Doc. 03-11652 Filed 5-8-03; 8:45 am]

BILLING CODE 4165-15-M